DEPARTMENT OF LABOR

Employment and Training Administration

[TA-W-52,770]

Tower Mills, Inc., Burlington, NC; Notice of Revised Determination on Reconsideration

By application of December 12, 2003, a petitioner requested administrative reconsideration regarding the Department's Negative Determination Regarding Eligibility to Apply for Worker Adjustment Assistance, applicable to the workers of the subject firm.

The initial investigation resulted in a negative determination issued on November 3, 2003, based on the finding that imports of hosiery, spandex tights, pantyhose and trouser socks did not contribute importantly to worker separations at the subject plant and no shift of production to a foreign source occurred. The denial notice was published in the Federal Register on November 28, 2003 (68 FR 66878).

To support the request for reconsideration, the company official supplied additional major declining customers to supplement those that were surveyed during the initial investigation. Upon further review and contact with these customers of the subject firm, it was revealed that they increased their import purchases of socks and hosiery during the relevant period. The imports accounted for a meaningful portion of the subject plant's lost sales and production.

It was further revealed that U.S. aggregate imports of socks and hosiery increased significantly during the relevant period.

Conclusion

After careful review of the additional facts obtained on reconsideration, I conclude that increased imports of articles like or directly competitive with those produced at Tower Mills, Inc., Burlington, North Carolina, contributed importantly to the declines in sales or production and to the total or partial separation of workers at the subject firm. In accordance with the provisions of the Act, I make the following certification:

All workers of Tower Mills, Inc., Burlington, North Carolina, who became totally or partially separated from employment on or after August 27, 2002, through two years from the date of this certification, are eligible to apply for adjustment assistance under Section 223 of the Trade Act of 1974.

Signed in Washington, DC, this 31st day of January, 2004.
Elliott S. Kushner,
Certifying Officer, Division of Trade Adjustment Assistance.

[FR Doc. E4-247 Filed 02-10-04; 8:45 am]

BILLING CODE 4510-13-P